EQUAL EMPLOYMENT OPPORTUNITY COMMISSION

SES Performance Review Board

AGENCY: U.S. Equal Employment Opportunity Commission (EEOC).

ACTION: Notice of membership of the EEOC Performance Review Board.

SUMMARY: Notice is hereby given of the appointment of members to the EEOC Performance Review Board.

DATES: Membership is effective on the date of this notice.

FOR FURTHER INFORMATION CONTACT: Angelica E. Ibarguen, Chief Human Capital Officer, Office of Human Resources, U.S. Equal Employment Opportunity Commission, 1801 L Street, NW., Washington, DC 20507, (202) 663-4306.

SUPPLEMENTARY INFORMATION: Publication of the Performance Review Board (PRB) is required by 5 U.S.C. section 4314(c)(4). The PRB reviews and evaluates the initial appraisal of a senior executive's performance by the supervisor, and makes written recommendations regarding performance ratings, performance awards, potential Presidential Rank Award nominees, and performance-based pay adjustments to the Chair. The Board shall consist of at least three voting members. When evaluating a career appointee's initial appraisal or recommending a career appointee for a performance award, more than half of the members must be Senor Executive Service career appointees. The names and titles of the PRB members and alternates are as follows:

Anthony J. Kaminski, Chief Operating Officer (Chairperson)

John Czajkowski, Deputy Associate Director, Center for Program Studies, Office of Personnel Management (Member);

Rita Franklin, Deputy Director, Office of Human Capital Management, Department of Energy (Member);

Carlton M. Hadden, Director, Office of Federal Operations (Alternate);

Olophius Perry, Director, Los Angeles District Office (Member);

Gwendolyn Young Reams, Associate General Counsel for Litigation Management (Member); and

R.J. Ruff, Director, Houston District Office (Alternate).

Signed at Washington, DC, on this 8th day of November 2007.
For the Commission.
Naomi C. Earp,
Chair.

[FR Doc. E7-22388 Filed 11-15-07; 8:45 am]

BILLING CODE 6570-01-P